DEPARTMENT OF DEFENSE

Department of the Army

Availability of the Final Army Alternate Procedures for Protection of Army Historic Properties

AGENCY: Department of the Army, DoD.

ACTION: Notice of adoption.

SUMMARY: This notice announces the Department of the Army's adoption of and publishes the final Army Alternate Procedures (AAP) to 36 CFR Part 800: Protection of Army Historic Properties. The Advisory Council on Historic Preservation (Council) approved the AAP for adoption in a role-call vote at their meeting on July 13, 2001. The AAP is an optional procedure that an installation may choose to adopt to satisfy compliance with Section 106 of the National Historic Preservation Act (NHPA) in lieu of the existing regulations set forth in the Council's regulations at 36 CFR Part 800. The Army and the Council have consulted extensively with State Historic Preservation Officers, Indian tribes and Native Hawaiian organizations, and the National Trust for Historic Preservation throughout the development of the AAP. The AAP represents a plan-based approach to Section 106 compliance, in contrast to the project-by-project review approach defined in 36 CFR 800 subpart B.

ADDRESSES: To obtain additional copies of the AAP, contact the U.S. Army Environmental Center, ATTN: SFIM-AEC-PA (Mr. Robert DiMichele), Aberdeen Proving Ground, MD 21010-5401.

FOR FURTHER INFORMATION CONTACT: Mr. Lee Foster, 703-693-0675.

SUPPLEMENTARY INFORMATION: The Department of the Army has adopted the final AAP for compliance with Section 106 of the NHPA and for comprehensive management of historic properties on lands owned or controlled by the Department of the Army. The AAP stands in place of the project-by-project review procedures set forth in 36 CFR Part 800. The AAP's leverage the internal policy requiring installations to prepare Integrated Cultural Resource Management Plans (ICRMP) in accordance with Army Regulation 200-4, Cultural Resources Management, as implemented by more detailed guidance in Department of the Army Pamphlet, 200-4. The AAP authorizes Army Installation Commanders to develop a Historic Property Component (HPC) to the installation's ICRMP. Once certified by the Council, the HPC serves as the installation's Section 106 compliance agreement for a five (5) year period. The installation's Section 106 compliance responsibilities would be met through internal installation implementation of the HPC rather than case-by-case, formalized, external review of individual undertakings as presently required by 36 CFR Part 800. Installations choosing not to develop certified HPCs will continue to review undertakings in accordance with 36 CFR part 800.

Copies of the AAP can also be found on the Council's web site at www.achp.gov/army.html.

Dated: February 25, 2002.
Raymond J. Fatz,
Deputy Assistant Secretary of the Army (Environmental, Safety and Occupational Health), OASA(I&E).

BILLING CODE 3710-08-M

[FR Doc. 02-4837 Filed 3-5-02; 8:45 am]

BILLING CODE 3710-08-C